CIVIL RIGHTS COMMISSION

Sunshine Act Meeting Notice

AGENCY: United States Commission on Civil Rights.

ACTION: Notice of Commission Telephonic Business Meeting.

DATES: Tuesday, November 27, 2018, at 11:00 a.m. ET.

ADDRESSES: Meeting to take place by telephone.

FOR FURTHER INFORMATION CONTACT: Brian Walch, (202) 376-8371, publicaffairs@usccr.gov.

SUPPLEMENTARY INFORMATION: This business meeting is open to the public by telephone only.

Participant Access Instructions:

Public call-in information will be available in advance of the meeting at www.usccr.gov, https://twitter.com/USCCRgov and https://www.facebook.com/USCCRgov/.

Meeting Agenda

I. Approval of Agenda

II. Discussion of Discovery Plan

III. Adjourn Meeting.

Dated: November 19, 2018.
Brian Walch,
Director, Communications and Public Engagement.

[FR Doc. 2018-25588 Filed 11-19-18; 4:15 pm]

BILLING CODE 6335-01-P